OFFICE OF PERSONNEL MANAGEMENT

Notice of Submission for Approval: Questionnaire for Non-Sensitive Positions (SF 85)

AGENCY: U.S. Office of Personnel Management.

ACTION: 60-Day notice and request for comments.

SUMMARY: The National Background Investigation Bureau (NBIB), U.S. Office of Personnel Management (OPM) is notifying the general public and other Federal agencies that OPM is seeking Office of Management and Budget (OMB) approval of a revised information collection, Questionnaire for Non-Sensitive Positions, (SF 85).

DATES: Comments are encouraged and will be accepted until August 29, 2017.

ADDRESSES: Interested persons are invited to submit written comments on the proposed information collection to NBIB, U.S. Office of Personnel Management, 1900 E Street NW., Washington, DC 20415, Attention: Donna McLeod or by electronic mail at FISFormsComments@opm.gov.

FOR FURTHER INFORMATION CONTACT: A copy of this information collection, with applicable supporting documentation, may be obtained by contacting the NBIB, U.S. Office of Personnel Management, 1900 E Street NW., Washington, DC 20415, Attention: Donna McLeod or by electronic mail at FISFormsComments@opm.gov.

SUPPLEMENTARY INFORMATION: OPM is soliciting comments for this collection as required by the Paperwork Reduction Act of 1995, 44 U.S.C. 3507(a)(1). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Questionnaire for Non-Sensitive Positions, SF 85, including accompanying releases, housed in a system named e-QIP (Electronic Questionnaires for Investigative Processing), is an information collection completed by applicants for, or incumbents of, Federal Government civilian positions, and other individuals performing work on behalf of the Federal Government and requiring logical and physical access to Federal systems and facilities, e.g., pursuant to a Government contract. The collection is used by:

• The Federal Government in conducting background investigations of persons under consideration for non-sensitive, low-risk positions as defined in Executive Order 13764 and 5 CFR part 731;

• agencies in determining whether a person performing work for or on behalf of the Federal Government should be deemed eligible for physical and logical access to federally controlled facilities or information systems.

The SF 85 is completed by applicants for, or incumbents of, Federal Government civilian positions, or other individuals requiring logical or physical access to perform work on behalf of the Federal Government. For applicants, the SF 85 is to be used only after a conditional offer of employment has been made, unless OPM has provided an exception. The Electronic Questionnaires for Investigations Processing (e-QIP) is a web-based system application that houses the SF 85. A variable in assessing burden hours is the nature of the electronic application. The electronic application includes branching questions and instructions which provide for a tailored collection from the respondent based on varying factors in the respondent's personal history. The burden on the respondent is reduced when the respondent's personal history is not relevant to particular question, since the question branches, or expands for additional details, only for those persons who have pertinent information to provide regarding that line of questioning. Accordingly, the burden on the respondent will vary depending on whether the information collection relates to the respondent's personal history.

OPM proposes new changes to the SF 85. The instructional portion of the form will be modified. OPM will provide additional information regarding the investigative process. OPM will remove instructions that were needed only for persons completing a paper form, as the form is now collected by OPM only through electronic means. The Privacy Act Routine Uses provided on the form were updated to conform to the most recent publication of the OPM/Central 9 Personnel Investigations Records system of records notice. Section 6, your “Identifying Information” will be expanded to request additional identifiers. OPM will request, in Section 7, “Your Contact Information” that the respondent provide three contact numbers to facilitate contact between investigative personnel and the respondent; however respondents will be advised that only one number is required. Section 9, “Citizenship” will be expanded to collect additional information to assist in verifying derived citizenship of respondents born outside of the U.S. Section 10, “Dual/Multiple Citizenship” will include questions regarding the time period(s) of dual/multiple citizenship and an explanation of how such citizenship was acquired. Section 11, “Where You Have Lived” will include branching questions that replace detailed instructions for all respondents and instead tailor the collection to elicit information based on the respondent's relevant personal history. Section 12, “Where You Went to School” instructions will be changed regarding the requirement to list degree or diploma information. Section 13a, “Employment Activities-Employment & Unemployment Record” branching questions will be added to reduce detailed instructions for all respondents and tailor instructions as applicable to the respondent. Additionally, branching questions for foreign addresses and contacts will be added to assist with conducting the background investigation. Section 13b, “Employment Activities-Former Federal Service” will be added to capture former federal civilian service, excluding military service not previously provided. Section 13c, “Employment Record” branching questions will be added to prompt the applicant to enter the required information following each positive response.

In an effort to streamline information collection from the respondents, changes are proposed to add five areas of questioning found on the Declaration of Federal Employment form (OF 306) to the SF 85. The recommendation is to have questions pertaining to Selective Service record, military discharge, police records and court(s) martial, debarment from federal employment, and financial history included on the SF 85. This change would provide information needed in support of the background investigation and limit multiple reporting requirements for respondents for the purpose of the background investigation.

Section 15, “Military History” branching questions will be added to collect information pertaining to the types of military discharge received and information regarding military disciplinary actions. Branching questions will be added to elicit information regarding foreign military service, if applicable, in addition to U.S. military service, and to collect details of such service. Section 17, “Police Record” will include questions regarding offenses, charges, and arrests, and branching questions will be added to inquire about the disposition of criminal proceedings. Section 21, “Financial Record” will be added with branching questions to elicit specific detailed information pertaining to failure to file or pay Federal, state, or other taxes when required by law or ordinance and to collect information regarding delinquent federal debt.

Section 16, “People Who Know You Well” branching questions will be added to clarify and collect additional information pertaining to the references. Section 18, “Illegal Use of Drugs and Drug Activity” will include instruction to clarify that drug use or activity illegal under Federal laws must be reported, even if that use or activity is legal under state or local law(s). Branching questions will be added regarding drug treatment details, which is pertinent information needed to support final adjudication. Section 19, “Investigations and Clearance Record” will be added with branching questions to elicit information necessary to obtain relevant details regarding prior records, including debarment from government employment. Section 22, “Association Record” will be added with branching questions which collect detailed information pertinent to a respondent's involvement in terrorist organizations, association with persons involved in activities to further terrorism and/or to overthrow the U.S. Government by force or violence.

The general “Authorization for Release of Information” will include clarifying language noting that information gathered during the investigation may include publicly available electronic information, including electronic social media information that has been published or broadcast for public consumption, is available on request to the public, is accessible on-line to the public, is available to the public by subscription or purchase, or is otherwise lawfully accessible to the public. A change is also proposed to the expiration timeframe of the General Release to five years. This change is consistent with the investigative coverage period for low risk, non-sensitive positions. In the event that review of financial information is needed for a particular investigation, the “Fair Credit Reporting Disclosure and Authorization” will be added to the collection.

Analysis

Agency: NBIB, U.S. Office of Personnel Management.

Title: Questionnaire for Non-Sensitive Positions (SF 85).

OMB Number: 3206-0261.

Affected Public: The SF 85 is an information collections completed by applicants for, or incumbents of, Federal Government civilian positions, or positions in private entities performing work for the Federal Government under contract. The SF 85 will be used by the Federal Government in conducting background investigations and reinvestigations of persons under consideration for, or retention in, non-sensitive positions. The form may also be used by agencies in determining whether a subject performing work for, or on behalf of, the Government under a contract, should be deemed eligible for logical or physical access. For applicants, the SF 85 is to be used only after a conditional offer of employment has been made, unless an exception is provided by OPM.

Number of Respondents: 55,040.

Estimated Time per Respondent: 120 minutes.

Total Burden Hours: 110,080.

U.S. Office of Personnel Management.
Kathleen M. McGettigan,
Acting Director.

[FR Doc. 2017-13819 Filed 6-29-17; 8:45 am]

BILLING CODE 6325-53-P